DEPARTMENT OF VETERANS AFFAIRS

Advisory Committee on the Readjustment of Veterans, Notice of Meeting

The Department of Veterans Affairs (VA) gives notice under the Federal Advisory Committee Act, 5 U.S.C. App. 2, that the Advisory Committee on the Readjustment of Veterans will meet virtually and conduct virtual site visits to: Princeton, WV Vet Center and Tulsa, OK Vet Center. The meetings will begin and end as follows:

Date | Time | Open session
October 20, 2020 | 1:00 p.m. to 3:00 p.m. EST | No.
October 20, 2020 | 3:00 p.m. to 5:00 p.m. EST | Yes.
October 21, 2020 | 1:00 p.m. to 3:00 p.m. EST | No.
October 21, 2020 | 3:00 p.m. to 5:00 p.m. EST | Yes.

Sessions are open to the public, except when the Committee is conducting tours of VA facilities. Tours of VA facilities are closed, to protect Veterans' privacy and personal information.

The purpose of the Committee is to advise the Department of Veterans Affairs (VA) regarding the provision by VA of benefits and services to assist Veterans in the readjustment to civilian life. In carrying out this duty, the Committee shall take into account the needs of Veterans who served in combat theaters of operation. The Committee assembles, reviews, and assesses information relating to the needs of Veterans readjusting to civilian life and the effectiveness of VA services in assisting Veterans in that readjustment.

The Committee, comprised of 12 subject matter experts, advises the Secretary, through the VA Readjustment Counseling Service, on the provision by VA of benefits and services to assist Veterans in the readjustment to civilian life. In carrying out this duty, the Committee assembles, reviews, and assesses information relating to the needs of Veterans readjusting to civilian life and the effectiveness of VA services in assisting Veterans in that readjustment, specifically taking into account the needs of Veterans who served in combat theaters of operation.

On October 20, 2020, the agenda will include a virtual site visit of the Princeton, WV Vet Center, this field visit on 10/20/2020, from 1:00 p.m.-3:00 p.m., is closed to the public in accordance with 5 U.S.C. 552b (c) (6). Exemption 6 permits the Committee to close a meeting that is likely to disclose information of a personal nature where disclosure would constitute a clearly unwarranted invasion of personal privacy, which will most likely be the case throughout this field visit. At 3:00 p.m., the Committee will reconvene an open meeting which will include: A review of a proposition for establishment of a subcommittee, an overview presentation of the Office of Tribal Government Relations by Stephanie Birdwell, and a period of open discussion amongst committee members. For public members wishing to join the meeting, please use the following Webex link: https://veteransaffairs.webex.com/veteransaffairs/j.php?MTID=m42755e624be71029cf6717ab861366ad, Meeting Password: NQquwuN4@66 and to join via phone dial 1+ (404) 397-1596, Access Code: 199 619 7692.

On October 21, 2020, the agenda will include a virtual site visit of the Tulsa, OK Vet Center, this field visit on 10/21/2020 from 1:00 p.m.-3:00 p.m., is closed to the public in accordance with 5 U.S.C. 552b (c) (6). Exemption 6 permits the Committee to close a meeting that is likely to disclose information of a personal nature where disclosure would constitute a clearly unwarranted invasion of personal privacy, which will most likely be the case throughout this field visit. At 3:00 p.m., the Committee will reconvene an open meeting which will include: An overview of the Medical Legal Partnership program by Lara Eilhardt from the VA Office of General Counsel from 3:10 p.m.-4:00 p.m. For public members wishing to join the meeting, please use the following Webex link: https://veteransaffairs.webex.com/veteransaffairs/j.php?MTID=mbf925dd817202b77fa521f4fc10cd1cc, Meeting Password: 8UiCrY7u9q@ and to join by phone dial 1+ (404) 397-1596, Access Code: 199 510 7305.

No time will be allotted for receiving oral comments from the public; however, the committee will accept written comments from interested parties on issues outlined in the meeting agenda or other issues regarding the readjustment of Veterans. Parties should contact Ms. Sherry Moravy, via email at VHA10RCSAction@va.gov, or by mail at Department of Veterans Affairs, Readjustment Counseling Service (10RCS), 810 Vermont Avenue Washington, DC 20420. Any member of the public seeking additional information should contact Ms. Moravy at the phone number or email addressed noted above.

Dated: October 1, 2020.
Jelessa M. Burney,
Federal Advisory Committee Management Officer.

[FR Doc. 2020-22072 Filed 10-6-20; 8:45 am]

BILLING CODE P